DEPARTMENT OF HEALTH AND HUMAN SERVICES

Health Resources and Services Administration

National Vaccine Injury Compensation Program: Revised Amount of the Average Cost of a Health Insurance Policy

AGENCY: Health Resources and Services Administration (HRSA), Department of Health and Human Services (HHS).

ACTION: Notice.

SUMMARY: HRSA is publishing an updated monetary amount of the average cost of a health insurance policy as it relates to the National Vaccine Injury Compensation Program (VICP).

SUPPLEMENTARY INFORMATION: Section 100.2 of VICP's implementing regulation (42 CFR part 100) states that the revised amount of an average cost of a health insurance policy, as determined by the Secretary of HHS (the Secretary), is effective upon its delivery by the Secretary to the United States Court of Federal Claims (the Court), and will be published periodically in a notice in the Federal Register. The Secretary delegated this responsibility to the HRSA Administrator. This figure is calculated using the most recent Medical Expenditure Panel Survey-Insurance Component (MEPS-IC) data available as the baseline for the average monthly cost of a health insurance policy. This baseline is adjusted by the annual percentage increase/decrease obtained from the most recent annual Kaiser Family Foundation (KFF) Employer Health Benefits Survey or other authoritative source that may be more accurate or appropriate.

In 2019, MEPS-IC, available at www.meps.ahrq.gov, published the annual 2018 average total single premium per enrolled employee at private-sector establishments that provide health insurance. The figure published was $6,715. This figure is divided by 12 months to determine the cost per month of $559.58. The $559.58 figure is increased or decreased by the percentage change reported by the most recent KFF Employer Health Benefits Survey, available at www.kff.org. The percentage increase from 2018 to 2019 was 4.0 percent. By adding this percentage increase, the calculated average monthly cost of a health insurance policy for a 12-month period is $581.96.

Therefore, the Secretary announces that the revised average cost of a health insurance policy under the VICP is $581.96 per month. In accordance with § 100.2, the revised amount was effective upon its delivery by the Secretary to the Court. Such notice was delivered to the Court on November 7, 2019.

Dated: November 7, 2019.
Thomas J. Engels,
Acting Administrator.

[FR Doc. 2019-24886 Filed 11-15-19; 8:45 am]

BILLING CODE 4165-15-P